DEPARTMENT OF ENERGY

Federal Energy Regulatory Commission

[Docket No. EL06-13-000]

Entergy Services, Inc., Complainant v. Cottonwood Energy Company LP, Respondent; Notice of Complaint

November 2, 2005.

Take notice that on October 28, 2005, Entergy Services, Inc., on behalf of itself and Entergy Gulf States, Inc. (Entergy), filed a complaint against Cottonwood Energy Company LP (Cottonwood) pursuant to section 206 of the Federal Power Act, 16 U.S.C. 824e, and Rule 206 of the Commission's Rules of Practice and Procedure, 18 CFR 385.206. Entergy requests the Commission to issue an order prohibiting Cottonwood from charging Entergy as of November 1, 2005 for reactive power provided from Cottonwood generation within a specified dead band.

Entergy states that copies of the complaint were served on the contacts for Cottonwood as listed on the Commission's list of corporate officials.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on November 17, 2005.

Magalie R. Salas,
Secretary.

[FR Doc. E5-6198 Filed 11-9-05; 8:45 am]

BILLING CODE 6717-01-P